DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Public Law 92-463) and under the secure Rural Schools and Community Self-Determination Act of 2000 (Pub. L. 106-393) the Sierra National Forest's Resource Advisory Committee for Madera County will meet on Monday, April 15, 2002. The Madera Resource Advisory Committee will meet at the U.S.D.A. Forest Service Office in North Fork, CA. The purpose of the meeting is to review the RAC application process, review the draft evaluation sheet, and review current applications.

DATES: The Madera Resource Advisory Committee meeting will be held Monday, April 15, 2002. The meeting will be held from 7 p.m. to 9 p.m.

ADDRESSES: The Madera County RAC meeting will be held at the USDA Forest Service Office, 57003 Road 225, North Fork, CA.

FOR FURTHER INFORMATION CONTACT: Dave Martin, USDA Sierra National Forest, 57003 Road 225, North Fork, CA 93643 (559) 877-2218 ext. 3100; e-mail: dmartin05@fs.fed.us.

SUPPLEMENTARY INFORMATION: Agenda items to be covered include: (1) Review the application process; (2) review draft evaluation sheet; (3) review current project applications; (4) public comments. The meeting is open to the public. Public input opportunity will be provided and individuals will have the opportunity to address the Committee at that time.

Dated: March 22, 2002.
David W. Martin,
District Ranger.

[FR Doc. 02-7430 Filed 3-27-02; 8:45 am]

BILLING CODE 3410-11-M